DEPARTMENT OF THE INTERIOR

National Park Service

[NPS-WASO-NAGPRA-NPS0039435; PPWOCRADN0-PCU00RP14.R50000]

Notice of Intended Disposition: U.S. Department of Agriculture, Forest Service, Tonto National Forest, Phoenix, AZ

AGENCY: National Park Service, Interior.

ACTION: Notice.

SUMMARY: In accordance with the Native American Graves Protection and Repatriation Act (NAGPRA), the U.S. Department of Agriculture, Forest Service, Tonto National Forest intends to carry out the disposition of human remains, associated funerary objects, and unassociated funerary objects removed from Federal or Tribal lands to the lineal descendants, Indian Tribe, or Native Hawaiian organization with priority for disposition in this notice.

DATES: Disposition of the human remains and cultural items in this notice may occur on or after April 16, 2025. If no claim for disposition is received by March 17, 2026, the human remains and cultural items in this notice will become unclaimed human remains and cultural items.

ADDRESSES: Forest Supervisor Neil Bosworth, Tonto National Forest Supervisor's Office, 2324 E McDowell Road, Phoenix, AZ 85006, telephone (602) 469-4981, email neil.bosworth@usda.gov.

SUPPLEMENTARY INFORMATION: This notice is published as part of the National Park Service's administrative responsibilities under NAGPRA. The determinations in this notice are the sole responsibility of the Tonto National Forest, and additional information on the human remains and cultural items in this notice, including the results of consultation, can be found in the related records. The National Park Service is not responsible for the identifications in this notice.

Abstract of Information Available

Based on the information available, human remains representing, at least, three individuals have been reasonably identified. No associated funerary objects are present. The 196 unassociated funerary objects include stone palettes; a stone censer; a stone pendant or censer; a reconstructible ceramic vessel; lots of ceramic sherds, chipped stone, flaked stone tools, lithic tabular knife fragments, faunal bone, and ground stone (including manos and a mortar); a lithic biface; a worked bone awl; a worked shell; pollen samples; botanical samples; petrographic samples; flotation samples; and a mineral sample. From 1994 to 1996, Archaeological Research Services, Inc. (ARS) and Statistical Research, Inc. (SRI) excavated archaeological sites AR-03-12-03-456, AR-03-12-03-461, AR-03-12-03-563, AR-03-12-03-567, and AR-03-12-03-568 prior to a State Route (SR) 87 realignment project. Funerary features were excavated and ancestral remains and funerary objects were recovered. In June 1999 and October 2008, Arizona State Museum (ASM) received collections from ARS and SRI. Human remains and associated funerary objects were repatriated to the Salt River Pima-Maricopa Indian Community of the Salt River Reservation, Arizona in May 2011. In July 2015, during verification of faunal collections housed at ASM, remains consistent with human remains were identified. In 2024, a review of ASM's project database identified additional objects recovered from funerary feature proveniences which had not yet been repatriated.

Based on the information available, human remains representing, at least, 10 individuals have been reasonably identified. No associated funerary objects are present. From 1993 to 1996, Desert Archaeology excavated archaeological sites AR-03-12-06-199, AR-03-12-06-202, AR-03-12-06-1362, AR-03-12-06-1368, AR-03-12-06-2064, and AR-03-12-06-2284 as part of the Tonto Creek Archaeological Project prior to the realignment of State Route (SR) 188 near Punkin Center, Gila County, Arizona. Funerary features were located during data recovery. Human remains and associated funerary objects were repatriated to the Salt River Pima-Maricopa Indian Community of the Salt River Reservation, Arizona in April 2000. In 2001, collections were received and accessioned by Arizona State Museum (ASM) via repository agreement. In 2015, during verification of faunal collections housed at ASM, remains consistent with human remains were identified.

Based on the information available, no human remains have been reasonably identified. No associated funerary objects are present. The 984 unassociated funerary objects include miscellaneous stone objects, building material, pollen samples, botanical samples, chronometric samples, mineral samples, petrography samples, and lots of ceramic sherds, flaked stone, ground stone, shell, and faunal bone. From 1999 to 2000, Statistical Research, Inc. (SRI) excavated archaeological sites AR-03-12-06-2012, AR-03-12-06-2015, and AR-03-12-06-2017 as part of the SR 188 Cottonwood Creek Project in Gila County, Arizona prior to the realignment of State Route (SR) 188 near Jakes Corner, Arizona. Funerary features were located during data recovery. In September 2009, collections were received and accessioned by Arizona State Museum (ASM) via repository agreement. Human remains and associated funerary objects were repatriated to the Salt River Pima-Maricopa Indian Community of the Salt River Reservation, Arizona in May 2011. In 2024, a review of ASM's project database identified additional objects recovered from funerary feature proveniences which had not yet been repatriated.

Based on the information available, human remains representing, at least, 12 individuals have been reasonably identified. The two associated funerary objects are a lot of bulk lithic chipped stone and a lot of bulk ceramic sherds. The 15 unassociated funerary objects include bulk ceramic sherds, bulk lithic chipped stone, bulk ground stone, and faunal bone. From October 1996 to March 1999, Archaeological Consulting Services, Ltd. (ACS) excavated archaeological sites AR-03-12-02-78, AR-03-12-02-86, and AR-03-12-02-1191 as part of the SR 88 Wheatfields Project in Gila County, Arizona prior to the realignment of State Route (SR) 188 between Tonto National Monument and the junction with U.S. 60. Twenty-seven funerary features were located during data recovery. Human remains and associated funerary objects were repatriated to the Salt River Pima-Maricopa Indian Community of the Salt River Reservation, Arizona in July 2002 and February 2004. In November 2003, collections were received and accessioned by Arizona State Museum (ASM) via repository agreement. In July 2015, during verification of faunal collections housed at ASM, remains consistent with human remains were identified. In 2024, a review of ASM's project database identified additional objects recovered from funerary feature proveniences which had not yet been repatriated.

Based on the information available, human remains representing, at least, one individual have been reasonably identified. No associated funerary objects are present. In September 2023, the Arizona State University (ASU) Center for Archaeology and Society Repository notified the Tonto National Forest that one unrepatriated individual from the Roosevelt Platform Mound Study (RPMS), which took place near Roosevelt Lake in Gila County, Arizona, had been located at the Repository. RPMS excavations took place from 1989 to 1993. It is not currently known which site this individual was removed from. RPMS was a subset of a large Bureau of Reclamation-sponsored project known as “Plan 6” that entailed the modification of Theodore Roosevelt Dam. Human remains and cultural items from Plan 6 were previously repatriated to the Salt River Pima-Maricopa Indian Community of the Salt River Reservation, Arizona in 1998 and 1999.

Based on the information available, human remains representing, at least, one individual have been reasonably identified. The five associated funerary objects are three lots of sherds representing three reconstructible vessels, one lot of flaked stone, and one additional lot of sherds. This inhumation burial and associated funerary objects were recovered in June 2023 from archaeological site AR-03-12-01-02 in Yavapai County, Arizona after an inadvertent discovery during a pedestrian archaeological survey. This burial had been exposed by erosion and was recovered due to the risk of vandalism.

Based on the information available, human remains representing, at least, two individuals have been reasonably identified. The three associated funerary objects are one shell fragment, one lot of flaked stone, and one lot of ceramic sherds representing one vessel. These two cremation burials and associated funerary objects were observed by an archaeological monitor during maintenance of an existing generator facility. They were recovered in November 2006 from archaeological site AR-03-12-01-318 near Bartlett Lake in Maricopa County, Arizona. Human remains and associated funerary objects from a later inadvertent discovery at the same archaeological site in June 2022 were repatriated to the Salt River Pima-Maricopa Indian Community of the Salt River Reservation, Arizona in December 2024.

Determinations

The Tonto National Forest has determined that:

• The human remains described in this notice represent the physical remains of 29 individuals of Native American ancestry.

• The 10 associated funerary objects described in this notice are reasonably believed to have been placed intentionally with or near individual human remains at the time of death or later as part of the death rite or ceremony.

• The 1,195 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• The Salt River Pima-Maricopa Indian Community of the Salt River Reservation, Arizona has priority for disposition of the human remains and cultural items described in this notice.

Claims for Disposition

Written claims for disposition of the human remains and cultural items in this notice must be sent to the appropriate official identified in this notice under ADDRESSES. If no claim for disposition is received by March 17, 2026, the human remains and cultural items in this notice will become unclaimed human remains and cultural items. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains and cultural items in this notice may occur on or after April 16, 2025. If competing claims for disposition are received, the Tonto National Forest must determine the most appropriate claimant prior to disposition. Requests for joint disposition of the human remains and cultural items are considered a single request and not competing requests. The Tonto National Forest is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: January 28, 2025.
Melanie O'Brien,
Manager, National NAGPRA Program.

[FR Doc. 2025-04176 Filed 3-14-25; 8:45 am]

BILLING CODE 4312-52-P